DEPARTMENT OF ENERGY

Federal Energy Regulatory Commission

Privacy Act of 1974; System of Records

AGENCY: Federal Energy Regulatory Commission (FERC), DOE.

ACTION: Notice of a Modified System of Records.

SUMMARY: In accordance with the Privacy Act of 1974, all agencies are required to publish in the Federal Register a notice of their systems of records. Notice is hereby given that the Federal Energy Regulatory Commission (FERC) is publishing a notice of modifications to an existing FERC system of records titled “Commission Labor and Employee Relations Case Files (FERC-15)”.

DATES: Comments on this modified system of records must be received no later than 30 days after the date of publication in the Federal Register. If no public comment is received during the period allowed for comment or unless otherwise published in the Federal Register by FERC, the modified system of records will become effective a minimum of 30 days after date of publication in the Federal Register. If FERC receives public comments, FERC shall review the comments to determine whether any changes to the notice are necessary.

ADDRESSES: Comments may be submitted in writing to Federal Energy Regulatory Commission, 888 First Street NE, Washington, DC 20426 or electronically to privacy@ferc.gov. Comments should indicate that they are submitted in response to “Commission Labor and Employee Relations Case Files (FERC-15)”.

FOR FURTHER INFORMATION CONTACT: Mittal Desai, Chief Information Officer & Senior Agency Official for Privacy, Office of the Executive Director, Federal Energy Regulatory Commission, 888 First Street NE, Washington, DC 20426, (202) 502-6432.

SUPPLEMENTARY INFORMATION: In accordance with the Privacy Act of 1974, and to comply with the Office of Management and Budget (OMB) Memorandum M-17-12, Preparing for and Responding to a Breach of Personally Identifiable Information, January 3, 2017, this notice has twelve (12) new routine uses, including two routine uses that will permit FERC to disclose information as necessary in response to an actual or suspected breach that pertains to a breach of its own records or to assist another agency in its efforts to respond to a breach that was previously published separately at 87 FR 35543 (June 10, 2022).

The following sections have been updated to reflect changes made since the publication of the last notice in the Federal Register: dates; addresses; for further contact information; system location; system manager; purpose of the system; categories of individuals covered by the system; categories of records in the system; record source categories; routine uses of records maintained in the system, including categories of users and the purpose of such; policies and practices for storage of records; policies and practices for retrieval of records; policies and practices for retention and disposal of records; administrative, technical, physical safeguards; records access procedures; contesting records procedures; notification procedures; and history.

SYSTEM NAME AND NUMBER:

Commission Labor and Employee Relations Case Files (FERC-15).

SECURITY CLASSIFICATION:

Unclassified.

SYSTEM LOCATION:

Federal Energy Regulatory Commission, Workforce Relations Division, Office of the Executive Director, 888 First Street NE, Washington, DC 20426.

SYSTEM MANAGER(S):

Director, Workforce Relations Division, Office of the Executive Director, Federal Energy Regulatory Commission, 888 First Street NE, Washington, DC 20426.

AUTHORITY FOR MAINTENANCE OF THE SYSTEM:

5 CFR parts 430, 432, 752, 771; 5 U.S.C. 7121.

PURPOSE(S) OF THE SYSTEM:

The purpose of this system of records is to maintain data and records on labor and employee relations cases that may be used: to support progressive discipline actions, including in response to grievances; to support findings in inquiries into alleged workplace harassment; to support actions before other government entities such as, but not limited to, the Merit System Protection Board, Equal Employment Opportunity Commission, and the Federal Labor Relations Authority; to support actions in U.S. Federal District Court; and to support progressive discipline actions, and anti-harassment inquiries.

CATEGORIES OF INDIVIDUALS COVERED BY THE SYSTEM:

The categories of individuals on whom records are maintained are FERC employees who are the subject of any one of the following actions: disciplinary/adverse action, performance-based action, and/or grievance or have filed a petition of inquiry into alleged workplace harassment.

CATEGORIES OF RECORDS IN THE SYSTEM:

The categories of records maintained in the system include name, email address, telephone number, address, employee ID number, office, grade, signature, reference number, and various agency forms, decision documents, grievances, denials, appeals, requests for reconsideration, and briefs.

RECORD SOURCE CATEGORIES:

Records are obtained from subject employee, supervisors, office directors, Workforce Relations Division Director, Workforce Relations Specialists, Office of the General Counsel staff, the Federal Labor Relations Authority, Equal Employment Opportunity Commission, and the Merit Systems Protection Board.

ROUTINE USES OF RECORDS MAINTAINED IN THE SYSTEM, INCLUDING CATEGORIES OF USERS AND THE PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) as follows:

1. To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, when the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist.

10. To the Merit Systems Protection Board or the Board's Office of the Special Counsel, when relevant information is requested in connection with appeals, special studies of the civil service and other merit systems, review of OPM rules and regulations, and investigations of alleged or possible prohibited personnel practices.

11. To appropriate Federal, State, or local agency responsible for investigating, prosecuting, enforcing, or implementing a statute, rule, regulation, or order, if the information may be relevant to a potential violation of civil or criminal law, rule, regulation, order.

12. To appropriate agencies, entities, and person(s) that are a party to a dispute, when FERC determines that information from this system of records is reasonably necessary for the recipient to assist with the resolution of the dispute; the name, address, telephone number, email address, and affiliation; of the agency, entity, and/or person(s) seeking and/or participating in dispute resolution services, where appropriate.

POLICIES AND PRACTICES FOR STORAGE OF RECORDS:

Records are stored in paper and electronic format. Electronic records are stored on a SharePoint site within FERC's network. Data access is restricted to agency personnel whose responsibilities require access. Access to electronic records is controlled by the organization's Single Sign-On and Multi-Factor Authentication Solution. Paper records are stored in a lockable file cabinet. Access to the lockable file cabinet is badge-activated. Role based access is used to restrict data access and the organization employs the principle of least privilege, allowing only authorized users with access (or processes acting on behalf of users) necessary to accomplish assigned tasks in accordance with organizational missions and business functions.

POLICIES AND PRACTICES FOR RETRIEVAL OF RECORDS:

Records may be retrieved by the individual's name or by type of action.

POLICIES AND PRACTICES FOR RETENTION AND DISPOSAL OF RECORDS:

Records are retained in accordance with the applicable National Archives and Records Administration Schedules, with the following applicable General Records Schedule:

(1.) General Records Schedule (GRS) 2.3: Employee Relations Records, Item 050, DAA-GRS-2018-0002-0005. Temporary. Destroy 7 years after case is closed or final settlement on appeal, as appropriate, but longer retention is authorized if required for business use.

(2.) General Records Schedule (GRS) 2.3: Employee Relations Records, Item 060, DAA-GRS-2018-0002-0006. Temporary. Destroy no sooner than 4 years but no later than 7 years (see note 2) after case is closed or final settlement on appeal, as appropriate.

(3.) General Records Schedule (GRS) 2.3: Employee Relations Records, Item 080, DAA-GRS-2018-0002-0009. Temporary. Destroy after 3 years of final resolution of case, but longer retention is authorized if required for business use.

(4.) General Records Schedule (GRS) 2.3: Employee Relations Records, Item 090, DAA-GRS-2018-0002-0010. Temporary. Destroy after 3 years of final resolution of case, but longer retention is authorized if required for business use.

(5.) General Records Schedule (GRS) 2.3: Employee Relations Records, Item 100, DAA-GRS-2018-0002-0011. Temporary. Destroy 3 years after final resolution of case, but longer retention is authorized if required for business use.

(6.) General Records Schedule (GRS) 2.3: Employee Relations Records, Item 110, DAA-GRS-2018-0002-0012. Temporary. Destroy 3 years after final resolution of case, but longer retention is authorized if required for business use.

(7.) General Records Schedule (GRS) 2.3: Employee Relations Records, Item 111, DAA-GRS-2018-0002-0013. Temporary. Destroy 7 years after final resolution of case, but longer retention is authorized if required for business use.

ADMINISTRATIVE, TECHNICAL, AND PHYSICAL SAFEGUARDS:

See Policies and Practices for Storage of Records.

RECORD ACCESS PROCEDURES:

Individuals requesting access to the contents of records must submit a request through the Freedom of Information Act (FOIA) office. The FOIA website is located at: https://www.ferc.gov/foia. Requests may be submitted through the following portal: https://www.ferc.gov/enforcement-legal/foia/electronic-foia-privacy-act-request-form. Written requests for access to records should be directed to: Director, Office of External Affair, Federal Energy Regulatory Commission, 888 First Street NE, Washington, DC 20426.

CONTESTING RECORD PROCEDURES:

See Records Access procedures.

NOTIFICATION PROCEDURES:

Generalized notice is provided by the publication of this notice. For specific notice, see Records Access Procedure, above.

EXEMPTIONS PROMULGATED FOR THE SYSTEM:

None.

HISTORY:

65 FR 21743 (April 24, 2000).

Dated: September 13, 2024.
Debbie-Anne A. Reese,
Acting Secretary.

[FR Doc. 2024-21477 Filed 9-19-24; 8:45 am]

BILLING CODE 6717-01-P